DEPARTMENT OF JUSTICE

Notice of Lodging of Proposed Consent Decree Under the Clean Air Act

On July 25, 2022, the Department of Justice lodged a proposed consent decree with the United States District Court for the District of Colorado in the lawsuit entitled United States and State of Colorado v. DCP Operating Company, LP, et al., Civil Action No. 1:22-cv-01829-NRN.

The United States and the State of Colorado jointly filed this lawsuit under the Clean Air Act against Defendants DCP Operating Company, LP; DCP Midstream Holding, LLC; DCP LP Holdings, LLC; DCP Partners Colorado LLC; DCP Assets Holding, LP; and DCP Lucerne 2 Plant LLC, alleging violations of leak detection and repair requirements at seven natural gas processing plants in Colorado. The complaint seeks injunctive relief and civil penalties for the defendants' alleged failures to monitor and repair leaking equipment across the seven natural gas processing plants. The consent decree requires the defendants to perform injunctive relief to address the alleged violations, implement a mitigation project to help offset excess emissions caused by the alleged violations, and pay a $3,250,000 civil penalty. The civil penalty will be split evenly between the United States and the State of Colorado.

The publication of this notice opens a period for public comment on the consent decree. Comments should be addressed to the Assistant Attorney General, Environment and Natural Resources Division, and should refer to United States and State of Colorado v. DCP Operating Company, LP, et al., D.J. Ref. No. 90-5-2-1-12335. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $23.50 (25 cents per page reproduction cost) payable to the United States Treasury.

Jeffrey Sands,
Assistant Section Chief, Environmental Enforcement Section, Environment and Natural Resources Division.

[FR Doc. 2022-16259 Filed 7-28-22; 8:45 am]

BILLING CODE 4410-15-P